DEPARTMENT OF THE INTERIOR

Bureau of Land Management

[LLNM930000 L51010000 ER0000 LVRWG09G0690]

Notice of Availability of the Environmental Assessment for the Proposed SunZia Southwest Transmission Project, New Mexico

AGENCY: Bureau of Land Management, Interior.

ACTION: Notice.

SUMMARY: Pursuant to the National Environmental Policy Act of 1969, as amended, the Bureau of Land Management (BLM) has prepared an Environmental Assessment (EA) to determine whether newly identified measures to mitigate potential impacts caused by the proposed SunZia Southwest Transmission Line Project to military operations and readiness activities require the BLM to prepare a supplement to the Final Environmental Impact Statement (EIS), which the BLM published in June 2013. The mitigation proposed by the Department of Defense (DOD) would involve the burial of three segments that total approximately 5 miles of the SunZia Southwest Transmission Line Project within the area identified as the “call up area” north of the White Sands Missile Range along and within the preferred alternative corridor analyzed in the Final EIS. This notice announces the opening of a public comment period for the EA.

DATES: To ensure that comments will be considered, the BLM must receive written comments on the EA by December 29, 2014.

ADDRESSES: You may submit comments related to the EA by any of the following methods:

• Email: NMSunZiaProject@blm.gov.

• Mail: Bureau of Land Management, New Mexico State Office, Attention: SunZia Southwest Transmission Project, P.O. Box 27115, Santa Fe, NM 87502-0115.

• Courier or hand delivery: Bureau of Land Management, New Mexico State Office, Attention: Adrian Garcia, 301 Dinosaur Trail, Santa Fe, NM 87508-1560.

Copies of the EA are available in the New Mexico State Office, 301 Dinosaur Trail, Santa Fe, NM 87502, and online at www.blm.gov/nm/sunzia.

FOR FURTHER INFORMATION CONTACT: Adrian Garcia, telephone 505-954-2199; address 301 Dinosaur Trail, Santa Fe, NM 87502; email agarcia@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: SunZia Transmission, LLC proposes to construct, operate, and maintain two parallel overhead 500 kilovolt transmission lines located on Federal, State, and private lands from the proposed SunZia East Substation in Lincoln County, New Mexico, to the existing Pinal Central Substation in Pinal County, Arizona. If approved, the length of the transmission lines would range from 460 miles to over 500 miles depending on which route alignment is selected. The project has the potential to add 3,000 to 4,500 megawatts of electric capacity to the desert southwest region of the United States.

In June 2013, the BLM published a Notice of Availability for the Final EIS in the Federal Register and released the Final EIS. Following the publication of the Final EIS, the DOD raised objections to the BLM's Preferred Alternative Route through the “call-up area” north of the White Sands Missile Range. On May 27, 2014, the DOD proposed mitigation measures that, if adopted, would address the DOD's prior objections to the SunZia project by resolving potential impacts to military operations and readiness activities, including the burial of three segments of the proposed transmission line for approximately 5 miles in the “call-up area.” In response to DOD's proposal, the BLM has prepared an EA to examine whether the mitigation proposal requires the BLM to prepare a supplement to the Final EIS. In accordance with the Council on Environmental Quality's NEPA regulations, 40 CFR 1501.3(b) and 1502.9(c)(1), the EA examines whether DOD's proposed mitigation to bury three segments of the proposed transmission line represent “substantial changes in the proposed action” or “significant new circumstances or information relevant to environmental concerns and bearing on the proposed action or its impacts” from what the BLM analyzed in the Final EIS. The EA's scope is therefore limited to analyzing the impacts of DOD's mitigation proposal, which is to bury three short segments totaling approximately 5 miles of the transmission line along the BLM's preferred alternative route within the “call-up area.” The EA describes the burial of the three segments, provides a detailed inventory of resources and the potential direct, indirect, and cumulative impacts resulting from the SunZia project with the mitigation proposal, and compares whether, and to what extent, the impacts from the burial differ from the impacts analyzed in the Final EIS.

The BLM initiated the EA in June 2014 and has subsequently coordinated with potentally affected landowners, project representatives, the New Mexico State Land Office, and DOD personnel. Cooperating agencies involved in the development of the EA include the Department of the Army, White Sands Missile Range, the DOD Siting Clearinghouse, Office of the Deputy Under Secretary (Installations and Environment), and the New Mexico State Land Office. The EA refers to the three proposed buried segments as the Eastern, Central, and Western segments. The Eastern Segment is located on State land in Torrance County, New Mexico; the Central Segment is located on State, BLM, and private land in Socorro County, New Mexico; and the Western Segment is located on BLM and private land in Socorro County, New Mexico. In the EA, the BLM compares the impacts associated with the burial of the three segments of the transmission line with the construction and operation of an above-ground transmission line as described in the Preferred Alternative in the June 2013 SunZia Final EIS.

The BLM has reached a preliminary Finding of No New Significant Impact (FONNSI), as the analysis in the EA supports a conclusion that the Mitigation Proposal is not a substantial change from the Preferred Alternative and would not have new impacts significantly different from those analyzed for the Preferred Alternative in the SunZia Final EIS. Based on these findings, the BLM would intend to proceed with the Preferred Alternative identified in the SunZia Final EIS as modified by the Mitigation Proposal. A draft unsigned FONNSI is attached to the EA for review.

Please note that public comments and information submitted including names, street addresses, and email addresses of persons who submit comments will be available for public review and disclosure at the above address during regular business hours (8 a.m. to 4 p.m.), Monday through Friday, except holidays. Also note that only those comments that relate to the proposed mitigation measure being analyzed in the EA (burial of three segments of the transmission line in the call-up area) will be considered by the BLM. Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Aden L. Seidlitz,
Associate State Director, New Mexico.

[FR Doc. 2014-28098 Filed 11-26-14; 8:45 am]

BILLING CODE 4310-FB-P